DEPARTMENT OF ENERGY

Federal Energy Regulatory Commission

[Docket No. RP01-572-000]

Colorado Interstate Gas Company; Notice of Tariff Filing and Annual Charge Adjustment

September 7, 2001.

Take notice that on August 31, 2001, Colorado Interstate Gas Company (CIG), tendered for filing and acceptance by the Federal Energy Regulatory Commission (Commission), the following tariff sheet to its FERC Gas Tariff, First Revised Volume No. 1, to become effective October 1, 2001;

1st Rev. 31st Revised Sheet No. 11

CIG states that the tariff sheet is being filed to revise the Annual Charge Adjustment (ACA) from $0.0022. To $0.0021 per dth for the fiscal year beginning October 1, 2001.

CIG states that copies of this filing are being mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23124 Filed 9-14-01; 8:45 am]

BILLING CODE 6717-01-P